ELECTION ASSISTANCE COMMISSION

Sunshine Act Notice

AGENCY: U.S. Election Assistance Commission.

ACTION: Notice of public meeting agenda.

Date and Time: Friday, February 19, 2010, 10 a.m.-12 p.m. EDT.

Place: U.S. Election Assistance Commission, 1225 New York Ave., NW., Suite 150, Washington, DC 20005, (Metro Stop: Metro Center).

Agenda: The Commission will hold a public meeting to discuss draft Maintenance of Expenditure/Effort (MOE) Policy and consideration of posting draft MOE Policy for public comment. Commissioners will consider administrative matters. Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

Person to Contact for Information: Bryan Whitener, Telephone: (202) 566-3100.

Donetta Davidson,
Chair, U.S. Election Assistance Commission.

[FR Doc. 2010-3058 Filed 2-12-10; 4:15 pm]

BILLING CODE 6820-KF-P